DEPARTMENT OF JUSTICE

Antitrust Division

Notice Pursuant to the National Cooperative Research and Production Act of 1993—The Open Group, L.L.C.

Notice is hereby given that, on August 21, 2024, pursuant to section 6(a) of the National Cooperative Research and Production Act of 1993, 15 U.S.C. 4301 et seq. (“the Act”), The Open Group, LLC (“TOG”) has filed written notifications simultaneously with the Attorney General and the Federal Trade Commission disclosing changes in its membership. The notifications were filed for the purpose of extending the Act's provisions limiting the recovery of antitrust plaintiffs to actual damages under specified circumstances. Specifically, Alpha Data, Inc., Littleton, CO; American Rheinmetall Systems, Biddeford, ME; AngloGold Ashanti North America, Inc., Greenwood Village, CO; Brandywine Communications, Santa Ana, CA; Cargill, Inc., Wayzata, MN; CesiumAstro, Inc., Austin, TX; Defense Standardization Program Office, Ft. Belvoir, VA; EA Consulting France, Suresnes, FRANCE; Eleven Six Ltd, Abu Dhabi, UNITED ARAB EMIRATES; Fuse Integration, Inc., San Diego, CA; Icono Digital, Lima, PERU; IT Training Academy SA, Geneva, SWITZERLAND; ManTech International Corporation, Herndon, VA; Momentum World, LLC, Santa Clara, CA; Nagoya University, Nagoya, JAPAN; Power Device Corporation, Bohemia, NY; PTS Expeditionary Communications, Inc., Huntsville, AL; Reideate B.V., Amsterdam, THE NETHERLANDS; Reticulate Micro, Inc., Palm Bay, FL; SUSE, LLC, Pleasant Grove, UT; TBM Council, Bellevue, WA; TerraneXus, Perth, AUSTRALIA; Thales Defense & Security, Inc., Clarksburg, MD, Universidade Federal de Campina Grande (LIEC), Campina Grande, BRAZIL; VICOR Corporation, Andover, MA; VIStology, Mashpee, MA; Wellcoms Drilling & Geology Sarl, Maisonneuve, FRANCE; and Zooey GmbH, Bern, SWITZERLAND, have been added as parties to this venture.

Also, Actenum Corporation, Vancouver, CANADA; Agile Architects NV, Kontich, BELGIUM; ANELLO Photonics Inc., Santa Clara, CA; arcasg, Bogota, COLOMBIA; C3RiOS Systems, Inc., Montreal, CANADA; CAE USA, Inc., Arlington, TX; Cephas Consulting Corp., Tustin, CA; Cepsa, Madrid, SPAIN; COMPETENSIS, Fontaines St Martin, FRANCE; Cornet Technology, Inc., Springfield, VA; DAR Solutions, LLC, Rockford, IL; Dee Ann IT Consulting LLP, Nalagandla, INDIA; Elsevier, Inc., New York, NY; FIOS Insight, LLC, Houston, TX; Flare Solutions Limited, Portsmouth, UNITED KINGDOM; FLIR Systems, Inc., Wilsonville, OR; Freedom Power Systems, Inc., Cedar Park, TX; GooBiz—Goal Oriented Business, Cergy, FRANCE; Hargrove Controls + Automation, LLC, Mobile, AL; Indra Soluciones Tecnologías de la Información S.L.U., Alcobendas, SPAIN; MTN Group Management Services, Johannesburg, SOUTH AFRICA; Naval Information Warfare Center Atlantic, North Charleston, SC; Onyx Data, LLC, Engelwood, CO; Orion Technologies, LLC, Orlando, FL; PGS Geophysical AS, Oslo, NORWAY; PIARA, Inc., Pittsburgh, PA; RADA Technologies, LLC, Germantown, MD; Rebellion Defense, Inc., Washington, DC; The MathWorks, Inc., Natick, MA; Tomahawk Robotics, Inc., Melbourne, FL; Trusted Systems Consulting Group, Cupertino, CA; VisibleRisk, Inc., New York, NY; and XMPro, Inc., Dallas, TX, have withdrawn as parties to this venture.

Additionally, the following members have changed their names: Micro Focus (US) to Micro Focus Limited, Downington, PA; and Security Express, Pty Ltd to Reasonable Security Institute, Roseville, AUSTRALIA.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on May 2, 2024. A notice was published in the Federal Register pursuant to section 6(b) of the Act on June 21, 2024 (89 FR 52087).

Suzanne Morris,
Deputy Director Civil Enforcement Operations, Antitrust Division.

[FR Doc. 2024-23626 Filed 10-10-24; 8:45 am]

BILLING CODE P